DEPARTMENT OF TRANSPORTATION

Federal Highway Administration

Notice To Rescind a Notice of Intent To Prepare an Environmental Impact Statement (EIS): State Route 357 From Existing State Route 357 West of the Tri-Cities Airport to the U.S. 11E/19E U.S. 19E Intersection Near Bluff City, Sullivan County, TN

AGENCY: Federal Highway Administration (FHWA), DOT.

ACTION: Notice of Intent.

SUMMARY: The Federal Highway Administration (FHWA) is issuing this notice to advise the public that the Notice of Intent published on December 7, 2005 to prepare an Environmental Impact Statement (EIS) for the proposed extension of State Route 357 in Sullivan County, Tennessee, is being rescinded.

FOR FURTHER INFORMATION CONTACT: Ms. Karen M. Brunelle, Planning and Program Management Team Leader, Federal Highway Administration—Tennessee Division Office, 640 Grassmere Park Road, Suite 112, Nashville, TN 37211. 615-781-5772.

SUPPLEMENTARY INFORMATION: The FHWA, in cooperation with the Tennessee Department of Transportation, is rescinding the notice of intent to prepare an Environmental Impact Statement (EIS) on a proposal to provide an extension to State Route 357 in Sullivan County, Tennessee. The proposed project was to involve extending State Route 357 from existing State Route 357 west of the Tri-Cities Airport to the U.S. 11E/19E-U.S. 19E intersection near Bluff City, Tennessee.

The project was proposed to provide for existing and projected traffic demand on the surrounding transportation network. After nearly two years of public involvement, it became clear that there was not an urgent need for the extension to State Route 357. An extensive Context Sensitive Solution process with a local citizen team did not identify an immediate need for the extension project. The State Route 357 Extension project is not currently included as a priority project by either the Kingsport Metropolitan Planning Organization (MPO) or the First Tennessee Regional Planning Organization (RPO).

To ensure that the full range of issues related to this proposed action is identified and taken into account, comments and suggestions are invited from all interested parties. Comments and questions concerning the proposed action should be directed to the FHWA contact person identified above at the address provided above.

(Catalog of Federal Domestic Assistance Program Number 20.205, Highway Planning and Construction. The regulations implementing Executive Order 12372 regarding intergovernmental consultation on Federal programs and activities apply to this proposed program.)

Issued on: March 26, 2007.
Karen M. Brunelle,
Planning and Program Management Team Leader, Nashville, TN.

[FR Doc. E7-5891 Filed 3-29-07; 8:45 am]

BILLING CODE 4910-22-P